DEPARTMENT OF AGRICULTURE

Animal and Plant Health Inspection Service

7 CFR Part 301

[Docket No. APHIS-2015-0040]

Golden Nematode; Removal of Regulated Areas in Orleans, Nassau, and Suffolk Counties, New York

AGENCY: Animal and Plant Health Inspection Service, USDA.

ACTION: Affirmation of interim rule as final rule.

SUMMARY: We are adopting as a final rule, without change, an interim rule that amended the golden nematode regulations by removing areas in Orleans, Nassau, and Suffolk Counties in the State of New York from the list of generally infested areas. The interim rule was necessary to relieve restrictions on the movement of regulated articles from areas no longer under quarantine for golden nematode. As a result of the interim rule, movement of such articles from areas no longer under quarantine can proceed while preventing the spread of golden nematode from infested areas to noninfested areas of the United States.

DATES: Effective on February 23, 2016, we are adopting as a final rule the interim rule published at 80 FR 59551-59557 on October 2, 2015.

FOR FURTHER INFORMATION CONTACT: Mr. Jonathan M. Jones, National Policy Manager, Pest Management, Plant Protection and Quarantine, APHIS, 4700 River Road, Unit 160, Riverdale, MD 20737; (301) 851-2128.

SUPPLEMENTARY INFORMATION:

Background

In an interim rule¹ effective and published in the Federal Register on October 2, 2015 (80 FR 59551-59557, Docket No. APHIS-2015-0040), we amended the golden nematode regulations in 7 CFR part 301 by removing areas in Orleans, Nassau, and Suffolk Counties in the State of New York from the list of areas regulated for golden nematode.

¹ To view the interim rule and supporting documents, go to http://www.regulations.gov/#!docketDetail;D=APHIS-2015-0040.

Comments on the interim rule were required to be received on or before December 1, 2015. We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 80 FR 59551-59557 on October 2, 2015.

Done in Washington, DC, this 17th day of February 2016.
Kevin Shea,
Administrator, Animal and Plant Health Inspection Service.

[FR Doc. 2016-03672 Filed 2-22-16; 8:45 am]

BILLING CODE 3410-34-P